DEPARTMENT OF TRANSPORTATION

Federal Aviation Administration

[Docket No. FAA-2011-0146]

Notice of Intent To Review Structure of the Aviation Rulemaking Advisory Committee

AGENCY: Federal Aviation Administration (FAA), DOT.

ACTION: Notice and request for public comment.

SUMMARY: The FAA is considering restructuring the Aviation Rulemaking Advisory Committee (ARAC). This notice is to inform the public of FAA's intent and invites the public to provide any ideas or thoughts it may have on this matter.

DATES: Send your comments on or before April 4, 2011.

ADDRESSES: You may send comments identified by Docket Number FAA-2011-0146 using any of the following methods:

• Government-wide rulemaking Web site: Go to http://www.regulations.gov and follow the instructions for sending your comments electronically.

• Mail: Send comments to the Docket Management Facility; U.S. Department of Transportation, 1200 New Jersey Avenue, SE., West Building Ground Floor, Room W12-140, Washington, DC 20590.

• Fax: Fax comments to the Docket Management Facility at 202-493-2251.

• Hand Delivery: Bring comments to the Docket Management Facility in Room W12-140 of the West Building Ground Floor at 1200 New Jersey Avenue, SE., Washington, DC, between 9 a.m. and 5 p.m., Monday through Friday, except Federal holidays.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78).

Docket: To read background documents or comments received, go to http://www.regulations.gov at any time or to the Docket Management Facility in Room W12-140 of the West Building Ground Floor at 1200 New Jersey Avenue, SE., Washington, DC, between 9 a.m. and 5 p.m., Monday through Friday, except Federal holidays.

SUPPLEMENTARY INFORMATION:

Background

The Aviation Rulemaking Advisory Committee (ARAC) was established in February 1991 to provide FAA's Administrator with industry and public input in the form of information, advice, and recommendations to be considered in the full range of FAA rulemaking activities. These factors are consistent with the dictates of the Administrative Procedures Act (APA). The exchange of ideas that occurs through the ARAC process affords the FAA additional opportunities to obtain firsthand information and insight from those parties who are most affected by existing and proposed regulations.

ARAC consists of approximately 55 member organizations selected by the FAA as most representative of the various viewpoints of those impacted by FAA regulations. The organizations provide a membership fairly balanced in terms of points of view of those represented and the functions to be performed by the committee. The committee is composed of organizations representing air carriers, airports, flight attendants, manufacturers, pilots, public interest and advocacy groups, repair stations, and consumer groups. Members serve in a representative capacity. In addition, an Executive Committee (ExCom) was formed to provide overall administrative oversight for committee activities. The ExCom consists of the ARAC Chair and Vice Chair, who serve as chairperson and vice chairperson, respectively for ExCom; assistant chairpersons representing aeronautical technical subject areas (presently, air carrier operations, maintenance, occupant safety, general aviation certification and operations, noise, aircraft certification, airport certification, transport airplane and engine, rotorcraft, and training and qualifications) with active projects only in transport airplane and engine, and air carrier operations.

The goal of ARAC is to assemble the strongest expertise possible to address particular issues facing the aviation industry and traveling public. The committee conducts its business in open deliberations in the form of public meetings (working groups are exempted). As an advisory body, ARAC has consistently exercised its independence and freedom to provide the FAA recommendations that are not influenced or predetermined by the government. Since 1998, ARAC has submitted more than 110 documented recommendations or products to the FAA that have contributed significantly to the agency's ability to meet its regulatory obligations.

In recent years, the level of effort in ARAC has been reduced to the point that the FAA believes it may be appropriate to reorganize the committee in order to align the structure more closely with its current level of effort while maintaining its effectiveness. The FAA is considering reconstituting a new ARAC that reduces the over-arching layer of 55 members to a maximum of 25, eliminates the Executive Committee, while continuing to achieve balance across the broad spectrum of aviation stakeholders and interests. The FAA invites interested persons to participate in this request for comments by submitting written comments, data, or views. The most helpful comments clearly explain the reason for any position.

FOR FURTHER INFORMATION CONTACT: Renee Butner, Office of Rulemaking, ARM-24, Federal Aviation Administration, 800 Independence Ave., SW., Washington, DC 20591; telephone (202) 267-5093, facsimile (202) 267-5075; e-mail Renee.Butner@faa.gov.

This notice is published pursuant to 14 CFR 11.85.

Issued in Washington, DC, on February 28, 2011.
Pamela Hamilton-Powell,
Executive Director, Aviation Rulemaking Advisory Committee.

[FR Doc. 2011-4749 Filed 3-2-11; 8:45 am]

BILLING CODE 4910-13-P